DEPARTMENT OF ENERGY

10 CFR Parts 429, 430, and 431

[EERE-2019-BT-TP-0032]

RIN 1904-AE77

Energy Conservation Program: Test Procedure for Consumer Water Heaters and Residential-Duty Commercial Water Heaters

Correction

In proposed rule document 2021-27004, appearing on pages 1554-1614, in the issue of Tuesday, January 11, 2022, make the following correction:

On page 1554, in the first column, in the DATES section, in the second paragraph, in the second line: “Tuesday, January 25, 2022,” should read “Thursday, January 27, 2022,”.

[FR Doc. C1-2021-27004 Filed 1-18-22; 8:45 am]

BILLING CODE 0099-10-P